DEPARTMENT OF COMMERCE

Foreign-Trade Zones Board

(Docket 25-2005)

Foreign-Trade Zone 18, San Jose, California, Application for Subzone, Space Systems/Loral, Inc. (Satellites), Palo Alto, Menlo Park and Mountain View, California

An application has been submitted to the Foreign-Trade Zones Board (the Board) by the City of San Jose, grantee of FTZ 18, requesting special-purpose subzone status for the manufacturing facilities of Space Systems/Loral, Inc. (SS/L), located in Palo Alto, Menlo Park and Mountain View, California. The application was submitted pursuant to the provisions of the Foreign-Trade Zones Act, as amended (19 U.S.C. 81a-81u), and the regulations of the Board (15 CFR part 400). It was formally filed on May 24, 2005.

The SS/L facilities (1,300 employees) consist of five sites on 37 acres: Site 1 (28.4 acres) is located at 3825, 3850 and 3875 Fabian Way, Palo Alto; Site 2 (1 acre) is located at 3977 and 3963 Fabian Way, Palo Alto; Site 3 (5 acres) is located at 1034-1036 and 1025 E. Meadow Circle, Palo Alto; Site 4 (110,000 square feet) is located at 1205 and 1145 Hamilton Court, Menlo Park; and Site 5 (2.5 acres) is located at 2288 Charleston Road, Mountain View. The facilities are used for the manufacture of satellites and satellite systems (HTS 8802.60 and 8525.10 duty-free). Components and materials sourced from abroad (representing 15% of all parts used in the manufacturing process) include: coated wire, articles of aluminum, handtools, digital ADP machines, digital systems, computer parts, lithium ion battery cells, parts of storage batteries, switching apparatus, modems, magnetic tape, magnetic discs, computer discs, transmission apparatus, transmission with reception apparatus, radar apparatus, radio navigational apparatus, reception apparatus, antennas, apparatus parts, capacitors, resistors, printed circuits, electrical apparatus, switches, electrical panels, diodes, transistors, thyristors, photosensitive devices, semiconductor devices, integrated circuits, hybrid integrated circuits, signal generators, containers, parts of spacecraft, space navigation instruments, oscilloscopes, multimeters, voltage checking instruments, parts of test equipment and thermocouples (duty rate ranges from duty-free to 6.1%).

FTZ procedures would exempt SS/L from customs duty payments on the foreign components used in export production. Some 13 percent of the plant's shipments are sold to export markets; however, satellites launched from domestic sites are considered exported and a total of 96% of SS/L's zone savings would come from exports. The request indicates that the savings from FTZ procedures would help improve the plant's international competitiveness.

In accordance with the Board's regulations, a member of the FTZ staff has been appointed examiner to investigate the application and report to the Board.

Public comment is invited from interested parties. Submissions (original and 3 copies) shall be addressed to the Board's Executive Secretary at one of the following addresses:

1. Submissions Via Express/Package Delivery Services: Foreign-Trade-Zones Board, U.S. Department of Commerce, Franklin Court Building - Suite 4100W, 1099 14th St. NW, Washington, D.C. 20005; or

2. Submissions Via the U.S. Postal Service: Foreign-Trade-Zones Board, U.S. Department of Commerce, FCB - Suite 4100W, 1401 Constitution Ave. NW, Washington, D.C. 20230.

The closing period for their receipt is August 1, 2005. Rebuttal comments in response to material submitted during the foregoing period may be submitted during the subsequent 15-day period to August 15, 2005.

A copy of the application and accompanying exhibits will be available for public inspection at the Office of the Foreign-Trade Zones Board's Executive Secretary at the first address listed above, and at the U.S. Department of Commerce Export Assistance Center, 2152 N. Third Street, Suite 550, San Jose, California 95112.

Dated: May 24, 2005.
Dennis Puccinelli,
Executive Secretary.

[FR Doc. 05-10887 Filed 5-31-05; 8:45 am]

BILLING CODE 3510-DS-S